DEPARTMENT OF COMMERCE

National Oceanic and Atmospheric Administration

[RTID 0648-XA319]

Mid-Atlantic Fishery Management Council (MAFMC); Public Meetings

AGENCY: National Marine Fisheries Service (NMFS), National Oceanic and Atmospheric Administration (NOAA), Commerce.

ACTION: Notice; public meeting.

SUMMARY: The MAFMC's Spiny Dogfish Advisory Panel (AP) will meet to develop a Fishery Performance Report and/or other recommendations for spiny dogfish specifications.

DATES: The meeting will be held Wednesday, August 19, 2020, from 3 p.m. to 5 p.m.

ADDRESSES: The meeting will be held via webinar. The webinar link is: http://mafmc.adobeconnect.com/dogfishap2020/.

Council address: Mid-Atlantic Fishery Management Council, 800 N. State St., Suite 201, Dover, DE 19901; telephone: (302) 674-2331.

FOR FURTHER INFORMATION CONTACT: Christopher M. Moore, Ph.D. Executive Director, MAFMC; telephone: (302) 526-5255. The MAFMC's website, www.mafmc.org also has details on the proposed agenda, webinar access, and briefing materials.

SUPPLEMENTARY INFORMATION: The purpose of the meeting is to create a Fishery Performance Report by the MAFMC's Spiny Dogfish Advisory Panel. The report facilitates structured input from the Advisory Panel members into the specifications development process.

Special Accommodations

The meeting is physically accessible to people with disabilities. Requests for sign language interpretation or other auxiliary aid should be directed to M. Jan Saunders, (302) 526-5251, at least 5 days prior to the meeting date.

Authority: 16 U.S.C. 1801 et seq.

Dated: July 30, 2020.
Tracey L. Thompson,
Acting Deputy Director, Office of Sustainable Fisheries, National Marine Fisheries Service.

[FR Doc. 2020-16916 Filed 8-3-20; 8:45 am]

BILLING CODE 3510-22-P